SOCIAL SECURITY ADMINISTRATION

Agency Information Collection Activities: Proposed Request and Comment Request

The Social Security Administration (SSA) publishes a list of information collection packages that will require clearance by the Office of Management and Budget (OMB) in compliance with Pub Law 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the OMB Desk Officer and the SSA Reports Clearance Officer and at the following addresses:

(OMB): Office of Management and Budget, Attn: Desk Officer for SSA, New Executive Office Building, Room 10230, 725 17th St., NW., Washington, DC 20503.

(SSA): Social Security Administration, DCFAM, Attn: Frederick W. Brickenkamp, 1-A-21 Operations Bldg., 6401 Security Blvd., Baltimore, MD 21235.

I. The information collection listed below will be submitted to OMB within 60 days from the date of this notice. Therefore, your comments should be submitted to SSA within 60 days from the date of this publication. You can obtain copies of the collection instruments by calling the SSA Reports Clearance Officer at 410-965-4145, or by writing to him at the address listed above.

1. Statement Regarding Students' School Attendance—0960-0113. Form SSA-2434 is used by the Social Security Administration to determine student entitlement status of the children of coal miners, children of their widows or the brothers of deceased miners eligible for Black Lung benefits. This form collects information from students about to attain age 18, for the express purpose of evaluating their continuing eligibility for program benefits under the Federal Mine Safety Act of 1977. The respondents are entitled black lung children of coal miner's or their widow, or the brother of deceased black lung coal miners.

Number of Respondents: 50.

Frequency of Response: 1.

Average Burden Per Response: 10 minutes.

Estimated Annual Burden: 8 hours.

II. The information collections listed below have been submitted to OMB for clearance. Your comments on the information collections would be most useful if received by OMB and SSA within 30 days from the date of this publication. You can obtain a copy of the OMB clearance package by calling the SSA Reports Clearance Officer on (410) 965-4145, or by writing to him at the address listed above.

1. Employee Identification Statement—0960-0473. The information collected on Form SSA-4156 is needed in scrambled earnings situations when two or more individuals have used the same social security number (SSN), or when an employer (or employers) have reported earnings for two or more employees under the same SSN. The information on the form is used to help identify the individual (and the SSN) to whom the earnings belong. The respondents are employers who have reported erroneous wages.

Number of Respondents: 4,750.

Frequency of Response: 1.

Average Burden Per Response: 10 minutes.

Estimated Average Burden: 792 hours.

2. Plan for Achieving Self-Support—0960-0559. The information on form SSA-545 is collected by SSA when a Supplemental Security Income (SSI) applicant/recipient desires to use available income and resources to obtain education and/or training in order to become self-supportive. The information is used to evaluate the recipient's plan for achieving self-support to determine whether the plan may be approved under the provisions of the SSI program. The respondents are SSI applicants/recipients who are blind or disabled.

Number of Respondents: 7,000.

Frequency of Response: 1.

Average Burden Per Response: 2 hours.

Estimated Average Burden: 14,000 hours.

3. Electronic Death Registration Survey—0960-0625. Section 205(r) requires the Social Security Administration (SSA) to enter into agreements with States to obtain death records. Sections 202(a)(1)-(h)(1) require SSA to terminate Retirement, Survivors and Disability benefits upon the death of the beneficiary. This survey will measure the States' readiness to implement electronic death registration processes, which will result in SSA getting death information more timely and accurately to terminate benefits as required by law. The respondents are State Vital Records Directors.

Number of Respondents: 55.

Frequency of Response: 1.

Average Burden Per Response: 30 minutes.

Estimated Annual Burden: 28 hours.

4. Request for a Deceased Individual's Social Security Record, SSA-711; You Can Make Your Payment by Credit Card for a Deceased Individual's Social Security Record, SSA-714—0960-NEW. Form SSA-711 is used by SSA to fulfill requests from members of the public who apply for a microprint of the SS-5, Application for Social Security Card, for a deceased individual. SSA provides this information in response to a request from an individual conducting genealogical research. The information collected on Form SSA-714 is used by SSA to process credit card payments from members of the public who request a microprint of the SS-5 in conjunction with the service provided by the Agency through the SSA-711. Respondents to the SSA-711 and 714 are members of the public who request a microprint of the SS-5 of a deceased individual for genealogical research.

| Respondents | Frequency of response | Average burden per response (min) | Estimated annual burden
SSA-711 | 320,000 | 1 | 7 | 37,333
SSA-714 | 50,000 | 1 | 7 | 5,833
Total burden hours |  |  |  | 43,166

5. Statement for Determining Continuing Eligibility for Supplemental Security Income Payments—Adult, Form SSA-3988-TEST; Statement for Determining Continuing Eligibility for Supplemental Security Income Payments—Child, Form SSA-3987-TEST—0960-NEW.

Background

The Social Security Act mandates periodic redeterminations of the non-medical factors that relate to the SSI recipients' continuing eligibility for SSI payments. Recent SSA studies have indicated that as many as ⅔ of all scheduled redeterminations completed, with the assistance of a SSA employee, did not result in any change in circumstances that affected payment. Therefore, SSA will conduct a limited test to determine whether a less intrusive and labor intensive redetermination process could result in significant operational savings and a decrease in recipient inconvenience, while timely obtaining the accurate data needed to determine continuing eligibility through the process.

The Collection

A limited test of forms SSA-3988-TEST and SSA-3987-TEST will be used to determine whether SSI recipients have met and continue to meet all statutory and regulatory non-medical requirements for SSI eligibility, and whether they have been and are still receiving the correct payment amount. The SSA-3988-TEST and SSA-3987-TEST are designed as self-help forms that will be mailed to recipients or to their representative payees for completion and return to SSA. The test objectives are to determine the public's ability to understand and accurately complete the test forms. The respondents are recipients of SSI benefits or their representatives.

| Respondents | Frequency of response | Average burden per response (min) | Estimated annual burden
SSA-3988-TEST | 13,600 | 1 | 20 | 4,533
SSA-3987-TEST | 2,400 | 1 | 20 | 800
Total burden hours |  |  |  | 5,333

6. Request for the Correction of Earning Records—0960-0029. Form SSA-7008 is used by individual wage earners to request SSA's review, and if necessary, correction of the Agency's master record of their earnings. The respondents are individuals who question SSA's record of their earnings.

Number of Respondents: 375,000.

Frequency of Response: 1.

Average Burden Per Response: 10 minutes.

Estimated Annual Burden: 62,500 hours.

7. Statement of Agricultural Employer (Years prior to 1988); Statement of Agricultural Employer (1988 and Later)—0960-0036. The information on Forms SSA-1002 and SSA-1003 is used by the Social Security Administration (SSA) to resolve discrepancies when farm workers have alleged that their employers did not report their wages or reported them incorrectly. The respondents are agricultural employers.

| Respondents | Frequency of response | Average burden per response (min) | Estimated annual burden
SSA-1002 | 75,000 | 1 | 10 | 12,500
SSA-1003 | 50,000 | 1 | 30 | 25,000
Total burden hours |  |  |  | 37,500

Dated: August 24, 2001.
Frederick W. Brickenkamp,
Reports Clearance Officer.

[FR Doc. 01-21861 Filed 8-29-01; 8:45 am]

BILLING CODE 4191-02-P